DEPARTMENT OF DEFENSE

Department of the Navy

Notice of Intent To Prepare an Environmental Impact Statement for Homeporting Additional Surface Ships at Naval Station Mayport, FL, and To Announce a Public Scoping Meeting

AGENCY: Department of the Navy, DoD.

ACTION: Notice.

SUMMARY: Pursuant to Section (102)(2)(C) of the National Environmental Policy Act (NEPA) of 1969, as implemented by the Council on Environmental Quality Regulations (40 CFR Parts 1500-1508), the Department of Navy (Navy) announces its intent to prepare an Environmental Impact Statement (EIS) to evaluate the potential environmental consequences of constructing and operating the facilities and infrastructure associated with homeporting additional surface ships at Naval Station (NAVSTA) Mayport, FL. The Navy proposes to review and assess homeporting additional Atlantic Fleet surface ships at NAVSTA Mayport including cruisers, destroyers, frigates, amphibious assault ships, amphibious transport docks, dock landing ships, and/or a nuclear-powered aircraft carrier. Ultimately the homeporting could involve the relocation of existing ships to NAVSTA Mayport or the assignment of newly acquired ships to NAVSTA Mayport. The proposal includes only those required activities necessary to prepare and operate NAVSTA Mayport for the proposed homeporting and does not include actions at other Navy bases. The EIS study area is NAVSTA Mayport, the Mayport turning basin, the entrance channel, and a portion of the main shipping channel. NAVSTA Mayport covers 3,409 acres and is homeport for 22 ships, five helicopter squadrons, and approximately 16,010 sailors and civilians making it the third largest naval facility in the continental U.S. The scope of actions to be analyzed in this EIS includes homeporting of various classes of surface ships and construction to include dredging, infrastructure and wharf improvements, and construction of nuclear-powered aircraft carrier propulsion plant maintenance facilities (depot-level maintenance facilities including a controlled industrial facility, ship maintenance facility, and maintenance support facility).

Dates and Addresses: One public scoping meeting will be held in Jacksonville, FL, to receive written comments on environmental concerns that should be addressed in the EIS. The public scoping open house will be held on December 5, 2006, from 4 p.m. to 8:30 p.m. at the Wilson Center of the Florida Community College at Jacksonville, South Campus, 11901 Beach Boulevard, Jacksonville, FL.

FOR FURTHER INFORMATION CONTACT: Mr. Will Sloger, Naval Facilities Engineering Command Southeast, 2155 Eagle Drive, North Charleston, SC 29406; telephone 843-820-5797; facsimile 843-820-5848.

SUPPLEMENTARY INFORMATION: The purpose of the proposed action is to ensure effective support of Fleet operational requirements through efficient use of waterfront and shoreside facilities at NAVSTA Mayport.

The EIS will evaluate the environmental effects associated with: Water resources; air quality; biological resources, including threatened and endangered species; land use; socioeconomic resources; infrastructure; and cultural resources. The analysis will include an evaluation of direct and indirect impacts, and will account for cumulative impacts from other relevant activities in the Mayport area. The Navy will analyze alternatives that include cruisers, destroyers, frigates, amphibious assault ships, amphibious transport docks, dock landing ships, and/or a nuclear-powered aircraft carrier. No decision will be made to implement any alternative until the EIS process is completed and a Record of Decision is signed by the Assistant Secretary of the Navy (Installations and Environment).

The Navy is initiating the scoping process to identify community concerns and local issues to be addressed in the EIS. Federal agencies, State agencies, local agencies, and interested persons are encouraged to provide written comments to the Navy to identify specific issues or topics of environmental concern that should be addressed in the EIS. Written comments must be postmarked by December 29, 2006 and should be mailed to: Naval Facilities Engineering Command Southeast, 2155 Eagle Drive, North Charleston, SC 29406, Attn: Code EV21 (Mr. Will Sloger), telephone 843-820-5797, facsimile 843-820-5848.

Dated: November 1, 2006.
M.A. Harvison,
Lieutenant Commander, Judge Advocate General's Corps, U.S. Navy, Federal Register Liaison Officer.

[FR Doc. E6-19163 Filed 11-13-06; 8:45 am]

BILLING CODE 3810-FF-P